NUCLEAR REGULATORY COMMISSION

[Docket No. 040-09068; License SUA-1598; NRC-2008-0391]

Lost Creek ISR, LLC, Lost Creek Uranium In-Situ Recovery Project, Sweetwater County, Wyoming

AGENCY: Nuclear Regulatory Commission.

ACTION: Environmental assessment and finding of no significant impact for license amendment; availability.

SUMMARY: The U.S. Nuclear Regulatory Commission (NRC) is considering an amendment to Source Materials License SUA-1598 for continued uranium production operations and in-situ recovery (ISR) of uranium at the Lost Creek Project in Sweetwater County, Wyoming.

ADDRESSES: Please refer to Docket ID NRC-2008-0391 when contacting the NRC about the availability of information regarding this document. You may access information related to this document, which the NRC possesses and are publicly-available, using any of the following methods:

• Federal Rulemaking Web site: Go to http://www.regulations.gov and search for Docket ID NRC-2008-0391. Address questions about NRC dockets to Carol Gallagher; telephone: 301-492-3668; email: Carol.Gallagher@nrc.gov.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS). In addition, for the convenience of the reader, the ADAMS accession numbers are provided in a Table in Section IV of this notice.

• NRC's PDR: You may examine and purchase copies of public documents at the NRC's PDR, Room O1-F21, One White Flint North, 11555 Rockville Pike, Rockville, Maryland 20852.

FOR FURTHER INFORMATION CONTACT: Mr. Alan B. Bjornsen, Project Manager, Office of Federal and State Materials and Environmental Management Programs, U.S. Nuclear Regulatory Commission, Washington, DC 20555-0001; telephone: 301-415-1195; email: Alan.Bjornsen@nrc.gov.

SUPPLEMENTARY INFORMATION:

I. Introduction

Lost Creek ISR, LLC (LCI) is proposing to install two rotary vacuum dryers in the pre-existing space that was made available in the Central Processing Plant (CPP), and requesting to increase their production rate at the facility from 455,000 kilograms (kg) [1 million pounds (lb)] to up to 909,000 kg [2 million lb] of dry yellowcake per year. The licensee intends to increase production of yellowcake at the facility by accepting equivalent feed including loaded (uranium-laden) resin from other uranium recovery facilities, including potential future satellite facilities, but has not requested a license amendment to increase the flow rate at the Lost Creek wellfields. The NRC has prepared an Environmental Assessment (EA) in support of this proposed license amendment, in accordance with the requirements in Part 51 of Title 10 of the Code of Federal Regulations (10 CFR). The NRC is also conducting a safety evaluation of the proposed license amendment, pursuant to 10 CFR part 40. The results of the safety evaluation will be documented in a separate Safety Evaluation Report (SER). If approved, the NRC will issue the amended license following the publication of this notice. The amended license and associated SER will be made available in ADAMS.

II. Environmental Assessment Summary

On January 6, 2012, LCI (a wholly-owned subsidiary of UR-Energy, Inc. of Littleton, Colorado) submitted an application to the NRC to amend NRC License SUA-1598 to include yellowcake rotary vacuum drying as an option within the CPP at the Lost Creek ISR Facility, and subsequent offsite shipment of vacuum dried yellowcake up to 909,000 kg [2 million lb] per year. This EA includes an evaluation of the potential environmental impacts of the action requested in LCI's license amendment application. The Lost Creek ISR Facility, which is currently under construction, is located in northeastern Sweetwater County, Wyoming, in the Wyoming West Uranium Milling Region identified in NUREG-1910, “Generic Environmental Impact Statement for In-Situ Leach Uranium Milling Facilities” (GEIS).

The proposed action to include yellowcake rotary vacuum drying in the CPP at the Lost Creek ISR Facility, and subsequent offsite shipment of dried yellowcake up to 909,000 kg [2 million lb] per year is not expected to result in significant additional impacts to the environment for the following reasons: (1) The licensee intends to increase dry yellowcake production in the future by accepting equivalent feed including loaded resins from other uranium recovery facilities and potential future satellite facilities, this would not affect the flow rate from the existing Lost Creek well fields; and (2) the dryers would be installed in a pre-existing space inside the CPP (identified in the existing license), there would be no physical changes to the footprint or structure of the building. As a result, there would be no additional impacts to the following resources: land use; geology and soils; water resources; ecological resources; visual and scenic resources; noise; historic and cultural resources; socioeconomics; and environmental justice. The resources that could be potentially affected are transportation, groundwater, air quality, public and occupational health, and waste management.

III. Finding of No Significant Impact

Based on the information presented in this EA describing the proposed action, the need for the proposed action, the alternatives to the proposed action, the environmental impacts of the proposed action and alternatives, and the agencies consulted, the NRC has determined that the proposed action will not have a significant impact on the quality of the human environment and does not warrant the preparation of an Environmental Impact Statement. Accordingly, the NRC has determined that a finding of no significant impact is appropriate.

This finding and any related environmental documents are available for public inspection through ADAMS and may be accessed from the NRC Library at http://www.nrc.gov/reading-rm/adams.html.

IV. Further Information

Documents related to this action, including the application for amendment and supporting documentation, are available electronically at the NRC Library at http://www.nrc.gov/reading-rm/adams.html. From this site, you can access the NRC's ADAMS, which provides text and image files of NRC's public documents. The ADAMS accession numbers for the documents related to this notice are provided in the following Table:

Document | ADAMS Accession No.
Acceptance of Receipt of Request to Amend License to Operate Two Rotary Vacuum Dryers at Lost Creek Project, February 1, 2012 | ML120330008
Acknowledge Receipt of Responses to the Request For Additional Information, March 12, 2012 | ML120730084
Summary of Teleconference and Response to RAIs for Supplemental Information to License Amendment Application, June 12, 2012 | ML12153A287
Letter to WDEQ, Request for Comments E-mail response from WDEQ | ML12305A410 ML13045A502
Environmental Assessment | ML13045A829
E-mail from LCI Regarding the Increase in Production and the Number of Resin Trucks Likely to Come from a Future Satellite Facility | ML13078A342

If you do not have access to ADAMS or if there are problems in accessing the documents located in ADAMS, contact the NRC PDR Reference staff at 1-800-397-4209, 301-415-4737 or by email to pdr.resource@nrc.gov. These documents may also be viewed electronically on the public computers located at the NRC's PDR, O-1F21, One White Flint North, 11555 Rockville Pike, Rockville, MD 20852. The PDR reproduction contractor will copy documents for a fee.

Dated at Rockville, Maryland, this 25th day of March, 2013.
For the U.S. Nuclear Regulatory Commission.
Aby Mohseni,
Deputy Director, Environmental Protection and Performance Assessment Directorate, Division of Waste Management and Environmental Protection, Office of Federal and State Materials and Environmental Management Programs.

[FR Doc. 2013-07704 Filed 4-2-13; 8:45 am]

BILLING CODE 7590-01-P